DEPARTMENT OF ENERGY

Federal Energy Regulatory Commission

[Project No. 2146-160]

Alabama Power Company; Notice of Application Accepted for Filing and Soliciting Comments, Motions To Intervene, and Protests

Take notice that the following hydroelectric application has been filed with the Commission and is available for public inspection:

a. Type of Application: Non-project use of project lands and waters.

b. Project No: 2146-160.

c. Date Filed: March 25, 2014.

d. Applicant: Alabama Power Company.

e. Name of Project: Coosa River Project.

f. Location: The project is located on the Coosa River, in Cherokee, Etowah, Calhoun, St. Clair, Talladega, Shelby, Coosa, Chilton, and Elmore counties, Alabama, and Floyd County, Georgia. The proposed action would occur on the Logan Martin Development, in Lincoln (Talladega County), Alabama.

g. Pursuant to: Federal Power Act, 16 U.S.C. 791a—825r.

h. Applicant Contact: Mr. Matthew J. Akin, Alabama Power Company, 600 18th Street North, Birmingham, AL 35203, telephone 205-257-1000.

i. FERC Contact: Mr. Lorance Yates at 678-245-3084 or email: lorance.yates@ferc.gov.

j. Deadline for filing comments and/or motions: May 30, 2014.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Secretary, Federal Energy Regulatory Commission, 888 First Street NE., Washington, DC 20426. Please include the project number (P-2146-160) on any comments, motions, or recommendations filed.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Application: Alabama Power Company proposes to permit Cathy Harris to use project land and waters for development of the England Isles RV park/campground by installing two new docks for common use: One (1) dock with 4 slips and 16 cleats, accommodating no more than 8 vessels; one (1) courtesy dock 50′ in length with 2 cleats and accommodating no more than 2 vessels. Additionally eleven (11) RV lots will be platted out with water, sewer and power provided to each lot. Each RV lot will have a gravel pad and one 50′ pier. The RV sites will be rented by the year and will have a full time manager. Each RV will be placed on a gravel pad on natural ground and there will be no grading or other dirt work.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits (P-2146) in the docket number field to access the document. You may also register online at http://www.ferc.gov/docs-filing/esubscription.asp to be notified via email of new filings and issuances related to this or other pending projects. For assistance, call 1-866-208-3676 or email FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: April 30, 2014.
Kimberly D. Bose,
Secretary.

[FR Doc. 2014-10423 Filed 5-6-14; 8:45 am]

BILLING CODE 6717-01-P